DEPARTMENT OF THE INTERIOR

U.S. Geological Survey

Agency Information Collection Activities: Comment Request

AGENCY: U.S. Geological Survey (USGS), Interior.

ACTION: Notice of an extension of an information collection (1028-0048).

SUMMARY: To comply with the Paperwork Reduction Act of 1995 (PRA), we are notifying the public that we will submit to OMB an information collection request (ICR) to renew approval of the paperwork requirements for “USGS Earthquake Report, (1 USGS form).” This notice provides the public an opportunity to comment on the paperwork burden of this form.

DATES: You must submit comments on or before November 14, 2008.

ADDRESSES: Send your comments on this information collection directly to the Office of Management and Budget (OMB), Office of Information and Regulatory Affairs, Attention: Desk Officer for the Department of the Interior via OMB e-mail: (OIRA_DOCKET@omb.eop.gov); or by fax (202) 395-6566; and identify your submission with #1028-0048.

Please submit a copy of your comments to Phadrea Ponds, Information Collections, U.S. Geological Survey, 2150-C Center Avenue, Fort Collins, CO 80525 (mail); (970) 226-9230 (fax); or pponds@usgs.gov (e-mail). Use Information Collection Number 1028-0062 in the subject line.

FOR FURTHER INFORMATION CONTACT: To request additional information about this ICR, contact John Dewey at (303) 274-8419.

SUPPLEMENTARY INFORMATION: Title: USGS Earthquake Report.

OMB Control Number: 1028-0048.

Type of Request: Revision of a currently approved collection.

Abstract: The U.S. Geological Survey is required to collect, evaluate, publish and distribute published information concerning earthquakes. Respondents will have an opportunity to voluntarily supply information concerning the effects of shaking from an earthquake—on themselves, buildings, other man-made structures, and ground effects such as faulting or landslides.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We will release data collected on these forms only in formats that do not include proprietary information volunteered by respondents.

Affected Public: General Public.

Respondent Obligation: Voluntary.

Frequency of Collection: On occasion, after each earthquake.

Estimated Number and Description of Respondents: Approximately 100,000 individuals affected by an earthquake.

Estimated Number of Responses: 80,000.

Annual Burden Hours: 10,000 hours.

Estimated Annual Reporting and Recordkeeping “Hour” Burden: The currently approved “hour” burden for this collection is 10,000 hours. We estimate the public reporting burden will average 6 minutes per response. This includes the time for reviewing instructions, and answering a Web-based questionnaire.

Estimated Reporting and Recordkeeping “Non-Hour Cost” Burden: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq.) requires each agency “ * * * to provide notice * * * and otherwise consult with members of the public and affected agencies concerning each proposed collection of information * * * ” Agencies must specifically solicit comments. We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60-day public comment period.

USGS Information Collection Clearance Officer: Phadrea Ponds, 970-226-9445.

Dated: September 9, 2008.
Vic Labson,
Acting Associate Director for Geology.

[FR Doc. E8-21428 Filed 9-12-08; 8:45 am]

BILLING CODE 4311-AM-P